DEPARTMENT OF AGRICULTURE

Rural Housing Service

Rural Business-Cooperative Service

Rural Utilities Service

Farm Service Agency

7 CFR Part 1955

RIN 0560-AG78

2002 Farm Bill Regulations—General Credit Provisions; Correction

AGENCIES: Rural Housing Service, Rural Business-Cooperative Service, Rural Utilities Services, and Farm Service Agency, USDA.

ACTION: Final rule; correcting amendment.

SUMMARY: This document corrects the final regulations published in the Federal Register on February 18, 2003, implementing certain provisions of the Farm Security and Rural Investment Act of 2002 (2002 Act).

DATES: Effective Date: February 18, 2003.

FOR FURTHER INFORMATION CONTACT: Constance Beckwith, Senior Loan Officer, USDA/FSA/DAFLP/LSPMD/STOP 0523, Washington DC 20250-0523; telephone 202-720-9769; Facsimile: 202-690-1196; E-mail: constance_beckwith@wdc.usda.gov. Persons with disabilities who require alternative means for communication (Braille, large print, audio tape, etc.) should contact the USDA Target Center at (202) 720-2600 (voice and TDD).

SUPPLEMENTARY INFORMATION:

Background

Section 5310 of the 2002 Act changed the definition of qualified beginning farmer or rancher by increasing the acres of land that these applicants could own to a maximum of 30 (instead of 25) percent of the average farm or ranch size in the county.

Need for Correction

As published, the final regulations amended the definition of “Beginning farmer or rancher” in 7 CFR 762.102, 1941.4 and 1943.4 to comply with the requirements of the 2002 Act. The definition of “Beginning farmer or rancher” is also included in 7 CFR 1955.103; however, the necessary amendment was inadvertently not included in the February 18, 2003, final rule.

List of Subjects in 7 CFR Part 1955

Government acquired property, Sale of government acquired property, Surplus government property.

Accordingly, chapter XVIII, title 7, Code of Federal Regulations is corrected as follows:

PART 1955—PROPERTY MANAGEMENT

1. The authority citation for part 1955 continues to read as follows:

Authority: 5 U.S.C. 301; 7 U.S.C. 1989, 42 U.S.C. 1480.

Subpart C—Disposal of Inventory Property

2. Amend § 1955.103 by removing the number “25” from the first sentence of paragraph (5) of the definition “Beginning farmer or rancher” and adding in its place the number “30.”

Dated: November 5, 2004.
Gilbert Gonzales,
Acting Under Secretary for Rural Development.
Dated: November 3, 2004.
J.B. Penn,
Under Secretary for Farm and Foreign Agricultural Services.

[FR Doc. 04-25285 Filed 11-12-04; 8:45 am]

BILLING CODE 3410-05-P